DEPARTMENT OF THE TREASURY

Office of Thrift Supervision

Platinum Community Bank, Rolling Meadows, Illinois; Notice of Appointment of Receiver

Notice is hereby given that, pursuant to the authority contained in section 5(d)(2) of the Home Owners' Loan Act, the Office of Thrift Supervision (OTS) has duly appointed the Federal Deposit Insurance Corporation as sole Receiver for Platinum Community Bank, Rolling Meadows, Illinois (OTS No. 15590), on September 4, 2009.

Dated: September 9, 2009.
By the Office of Thrift Supervision.
Sandra E. Evans,
Federal Register Liaison.

[FR Doc. E9-22156 Filed 9-15-09; 8:45 am]

BILLING CODE M